DEPARTMENT OF TRANSPORTATION

Federal Aviation Administration

14 CFR Part 39

[Docket No. FAA-2015-8433; Directorate Identifier 2015-NM-194-AD; Amendment 39-18366; AD 2016-01-07]

RIN 2120-AA64

Airworthiness Directives; Airbus Airplanes

AGENCY: Federal Aviation Administration (FAA), Department of Transportation (DOT).

ACTION: Final rule; request for comments.

SUMMARY: We are adopting a new airworthiness directive (AD) for all Airbus Model A319-113 and A319-114 airplanes; and Model A320-211 and A320-212 airplanes. This AD requires identifying affected engines, and doing a torque check of the forward engine bolts on affected engines. This AD would also require, for any bolt rotation that is found, torqueing the bolt and eventually replacing the forward engine mount bolts, nuts, and washers, doing a fluorescent penetrant inspection and dimensional check of the affected bolt holes for local deformation and cracks, and doing corrective actions if necessary. This AD was prompted by an incorrect torque unit for the CFM56-5A engine forward mount fasteners that was inadvertently introduced into a certain Airbus airplane maintenance manual. We are issuing this AD to prevent loose bolts, which, if combined with induced maintenance damage, could lead to forward engine mount failure. An engine mount failure can result in an engine detachment and consequent reduced control of the airplane, damage to the airplane, and injury to persons on the ground.

DATES: This AD becomes effective February 5, 2016.

The Director of the Federal Register approved the incorporation by reference of a certain publication listed in this AD as of February 5, 2016.

We must receive comments on this AD by March 7, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-8433.

Examining the AD Docket

You may examine the AD docket on the Internet at http://www.regulations.gov by searching for and locating Docket No. FAA-2015-8433; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

The European Aviation Safety Agency (EASA), which is the Technical Agent for the Member States of the European Union, has issued EASA AD 2015-0229, dated November 27, 2015, (referred to after this as “the MCAI”), to correct an unsafe condition for all Airbus Model A319-113 and A319-114 airplanes; and Model A320-211 and A320-212 airplanes. The MCAI states:

A review of the maintenance instructions revealed that an incorrect torque value with wrong unit for the four forward engine mount pylon bolts was included in task 71-00-00-400-040-A01, “Installation of the power plant with Engine Positioner TWW75E”, of the A320 family (CFMI) [CFM International] Aircraft Maintenance Manual (AMM), revision dated May 2013. It was determined that this AMM inconsistent torque unit affected the A319/A320 airplane equipped with CFM56-5A engines only.

Subsequently, AMM task 71-00-00-400-040-A01 was corrected to include the correct values in the August 2015 revision. During the period between these two AMM revisions, incorrect torque values may have been applied.

This condition, if not corrected, and if combined with induced maintenance damage, could lead to forward engine mount failure, possibly resulting in engine detachment and consequent reduced control of the airplane, damage to the airplane and/or injury to persons on the ground.

To address this potential unsafe condition, Airbus issued Alert Operators Transmission (AOT) A71N010-15 * * *, to provide instructions to check the torque values of the forward engine mount bolts.

For the reasons described above, this [EASA] AD requires identification of CFM56-5A engines that were installed by using the incorrect torque data, verifying the proper torque value of the all four forward engine mount pylon bolts and, depending on findings, accomplishment of corrective action(s) [i.e., tightening the under-torqued bolts and replacement of bolts at the next engine change. The replacement includes a fluorescent penetrant inspection and dimensional check of the pylon bolt holes of the affected forward engine mount platform for local deformation and cracks and corrective actions, i.e., replacing the forward platform].

You may examine the MCAI on the Internet at http://www.regulations.gov by searching for and locating Docket No. FAA-2015-8433.

Related Service Information Under 1 CFR Part 51

Airbus has issued Alert Operators Transmission (AOT) A71N010-15, dated September 30, 2015. The service information describes procedures for checking the current torque value for the forward engine bolts; torqueing the bolt; replacing the forward engine mount bolts, nuts, and washers; doing a fluorescent penetrant inspection and dimensional check of the pylon bolt holes of the affected forward engine mount platform for local deformation and cracks; and doing corrective actions. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because this condition, if not corrected, and if combined with induced maintenance damage, could lead to forward engine mount failure. A failed engine mount can result in engine detachment and consequent reduced control of the airplane, damage to the airplane, and injury to persons on the ground. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-8433; Directorate Identifier 2015-NM-194-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 126 airplanes of U.S. registry.

We also estimate that it will take about 5 work-hours per product to comply with the basic requirements of this AD. The average labor rate is $85 per work-hour. Based on these figures, we estimate the cost of this AD on U.S. operators to be $53,550, or $425 per product.

In addition, we estimate that any necessary follow-on actions will take about 1 work-hour for a cost of $85 per product. We have no definitive costs for the engine mounting bolts, nuts, and washers, and no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-01-07 Airbus: Amendment 39-18366. Docket No. FAA-2015-8433; Directorate Identifier 2015-NM-194-AD.

(a) Effective Date

This AD becomes effective February 5, 2016.

(b) Affected ADs

None.

(c) Applicability

This AD applies to the airplanes identified in paragraphs (c)(1) and (c)(2) of this AD, certificated in any category.

(1) Airbus Model A319-113 and A319-114 airplanes, all manufacturer serial numbers.

(2) Airbus Model A320-211 and A320-212 airplanes, all manufacturer serial numbers.

(d) Subject

Air Transport Association (ATA) of America Code 71, Power Plant.

(e) Reason

This AD was prompted by an incorrect torque unit for the CFM56-5A engine forward mount fasteners that was inadvertently introduced into a certain Airbus airplane maintenance manual. We are issuing this AD to prevent loose bolts, which if combined with induced maintenance damage, could lead to forward engine mount failure. An engine mount failure can result in an engine detachment and consequent reduced control of the airplane, damage to the airplane, and injury to persons on the ground.

(f) Compliance

Comply with this AD within the compliance times specified, unless already done.

(g) Identification of Affected Engines and Torque Check

Within 2 months after the effective date of this AD, accomplish the actions required by paragraphs (g)(1) and (g)(2) of this AD, as applicable.

(1) Identify each CFM56-5A engine that has been installed on the airplane as specified in A318/A319/A320/A321 Airplane Maintenance Manual (AMM) Task 71-00-00-400-040-A01, “Installation of the Power Plant with Engine Positioner TWW-75E,” of an AMM having a revision date between May 2013 and July 2015 (inclusive). A review of airplane maintenance records is acceptable in lieu of this determination if the date of the AMM revision used for the engine installation can be conclusively determined from that review.

(2) For each engine installation determined to be affected as required by paragraph (g)(1) of this AD, check the torque values applied on the forward engine mount bolts, in accordance with the instructions of paragraph 4.2.2 of Airbus Alert Operators Transmission (AOT) A71N010-15, dated September 30, 2015.

(h) On-Condition Actions

If, during the torque check required by paragraph (g)(2) of this AD, any bolt rotation is detected, accomplish the actions required by paragraphs (h)(1) and (h)(2) of this AD.

(1) Before further flight, torque the affected bolt, in accordance with the instructions of paragraph 4.2.3.1 of Airbus AOT A71N010-15, dated September 30, 2015.

(2) During the next engine removal, replace the forward engine mount bolts, nuts, and washers; accomplish a fluorescent penetrant inspection and dimensional check of the pylon bolt holes of the affected forward engine mount platform for local deformation and cracks; and do all applicable corrective actions; in accordance with the instructions of paragraph 4.2.3.2 of Airbus AOT A71N010-15, dated September 30, 2015. Do all applicable corrective actions before further flight.

(i) Parts Installation Limitation

As of the effective date of this AD, installation of a CFM56-5A engine on an airplane is permitted, provided that the installation is accomplished using the torque values for forward engine mount bolts specified in paragraph 4.2.3.1 of Airbus AOT A71N010-15, dated September 30, 2015.

Note 1 to paragraph (i) of this AD: Additional guidance for the re-torque can be found in Airbus A318/A319/A320/A321 AMM, Task 71-00-00-400-040-A01, “Installation of the Power Plant with Engine Positioner TWW 75E,” dated August 2015.

(j) Special Flight Permits

Special flight permits, as described in Section 21.197 and Section 21.199 of the Federal Aviation Regulations (14 CFR 21.197 and 21.199), are not allowed.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

Refer to Mandatory Continuing Airworthiness Information (MCAI) EASA AD 2015-0229, dated November 27, 2015, for related information. You may examine the MCAI on the Internet at http://www.regulations.gov by searching for and locating Docket No. FAA-2015-8433.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A71N010-15, dated September 30, 2015.

(ii) Reserved.

(3) For service information identified in this AD, contact Airbus, Airworthiness Office-EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 28, 2015.
Phil Forde,
Acting Manager, Transport Airplane Directorate, Aircraft Certification Service.

[FR Doc. 2016-01110 Filed 1-20-16; 8:45 am]

BILLING CODE 4910-13-P